FEDERAL COMMUNICATIONS COMMISSION

[DA 03-2033]

Consumer Advisory Committee

AGENCY: Federal Communications Commission.

ACTION: Notice.

SUMMARY: This document announces the next meeting date and agenda of the Consumer Advisory Committee (hereinafter “the Committee”), whose purpose is to make recommendations to the Federal Communications Commission (“FCC” or “Commission”) regarding consumer issues within the jurisdiction of the Commission and to facilitate the participation of consumers (including people with disabilities and underserved populations, such as Native Americans and persons living in rural areas) in proceedings before the Commission.

DATES: The next meeting of the Committee will take place on Friday, July 11, 2003, from 9 a.m. to 4 p.m.

ADDRESSES: The Committee will meet at the Commission's headquarters building, Room TW-C305, 445 12th Street, SW., Washington, DC 20554.

FOR FURTHER INFORMATION CONTACT: Scott Marshall, 202-418-2809 (voice) or 202-418-0179 (TTY). E-mail: cac@fcc.gov.

SUPPLEMENTARY INFORMATION: This is a summary of the Commission's Public Notice DA 03-2033, released June 19, 2003. The Commission announced the next meeting date and meeting agenda of its Consumer Advisory Committee.

Purpose and Functions

The purpose of the committee is to make recommendations to the Commission regarding consumer issues within the jurisdiction of the Commission and to facilitate the participation of consumers (including people with disabilities and underserved populations, such as Native Americans and persons living in rural areas) in proceedings before the Commission.

Meeting Date and Agenda

The next meeting of the Committee will take place on Friday, July 11, 2003, 9 a.m. to 4 p.m., at the Commission's headquarters building, Room TW-C305, 445 12th Street, SW., Washington, DC 20554.

At its July 11, 2003 meeting, the Committee will consider issues relating to broadband, the Telephone Consumer Protection Act, E9-1-1 service, wireless number portability, telecommunications relay services, and outreach to underserved populations. The Committee will also receive a briefing regarding consumer protection and enforcement activities, and may also consider other consumer issues within the jurisdiction of the Commission.

Availability of Copies and Electronic Accessibility

A copy of the June 19, 2003 Public Notice is available in alternate formats (Braille, cassette tape, large print or diskette) upon request. It is also posted on the Commission's website at www.fcc.gov/cgb/cac. The Committee meetings will be broadcast on the Internet in Real Audio/Real Video format with captioning at www.fcc.gov/cgb/cac. Meetings will be sign language interpreted, and real-time transcription and assistive listening devices will also be available. The meeting site is fully accessible to people with disabilities. Copies of meeting agendas and handout materials will also be provided in accessible formats. Meeting minutes will be available for public inspection at the FCC headquarters building and will be posted on the Commission's Web site at www.fcc.gov/cgb/cac.

The Committee meeting will be open to the public and interested persons may attend the meeting and communicate their views. Members of the public will have an opportunity to address the Committee on issues of interest to them and the Committee. Written comments for the Committee may also be sent to the Committee's Designated Federal Officer, Scott Marshall.

Federal Communications Commission.
K. Dane Snowden,
Chief, Consumer & Governmental Affairs Bureau.

[FR Doc. 03-15983 Filed 6-24-03; 8:45 am]

BILLING CODE 6712-01-U